DEPARTMENT OF COMMERCE

National Oceanic and Atmospheric Administration

RIN 0648-XC776

Advisory Committee to the U.S. Section of the International Commission for the Conservation of Atlantic Tunas; Fall Meeting

AGENCY: National Marine Fisheries Service (NMFS), National Oceanic and Atmospheric Administration (NOAA), Commerce.

ACTION: Notice of public meeting.

SUMMARY: In preparation for the 2013 International Commission for the Conservation of Atlantic Tunas (ICCAT) meeting, the Advisory Committee to the U.S. Section to ICCAT is announcing the convening of its fall meeting.

DATES: The meeting will be held October 10-11, 2013. There will be an open session on Thursday, October 10, 2013, from 9 a.m. through approximately 2:15 p.m. The remainder of the meeting will be closed to the public and is expected to end by 5 p.m. on October 11. Interested members of the public may present their views during the public comment session on October 10, 2013.

ADDRESSES: The meeting will be held at the Sheraton Hotel, 8777 Georgia Ave., Silver Spring, MD 20910. Written comments should be sent via email (Rachel.O'Malley@noaa.gov). Comments may also be sent via mail to Rachel O'Malley at NMFS, Office of International Affairs, Room 10653, 1315 East-West Highway, Silver Spring, MD 20910.

FOR FURTHER INFORMATION CONTACT: Rachel O'Malley, Office of International Affairs, 301-427-8373.

SUPPLEMENTARY INFORMATION: The Advisory Committee to the U.S. Section to ICCAT will meet October 10-11, 2013, first in an open session to consider management- and research-related information on stock status of Atlantic highly migratory species and then in a closed session to discuss sensitive matters. There will be an opportunity for oral public comment during the October 10, 2013, open session. The open session will be from 9 a.m. through 2:15 p.m. The public comment portion of the meeting is scheduled to begin at approximately 12:00 p.m. but could begin earlier depending on the progress of discussions. Comments may also be submitted in writing for the Advisory Committee's consideration. Interested members of the public can submit comments by mail or email; use of email is encouraged. All written comments must be received by October 8, 2013 (see ADDRESSES).

ICCAT has recently initiated a 3-year process to develop amendments to its Convention in several areas. Key issues under discussion include: (1) Clarification of the scope of the Convention, in particular with respect to shark conservation and management; (2) ecosystem considerations and the precautionary approach; (3) improvements to the decision-making processes of the Commission (e.g., voting rules, objection procedures, the timing of entry into force of measures, and dispute settlement); and (4) provisions to allow the participation of fishing entities such as Taiwan (known as Chinese Taipei) in ICCAT.

Clarifying the scope of the Convention is one of the more significant issues being considered in this process. ICCAT has adopted conservation and management measures for sharks and other bycatch species caught in association with ICCAT fisheries over the years. It is generally agreed, however, that there would be a benefit to clarifying the authority of the organization in this regard. In addition, some Contracting Parties to the organization consider that ICCAT should have unambiguous authority to manage certain shark species, whether taken in directed fisheries or as bycatch.

ICCAT has not yet determined how it will proceed with regard to the question of Convention scope as it relates to sharks. Some approaches to this issue that have been discussed include those reflected in existing Pacific tuna treaties, namely, the Convention on the Conservation and Management of Highly Migratory Fish Stocks in the Western and Central Pacific Ocean and the Antigua Convention. These models, if applied in the ICCAT context, would bring a wide array of shark species and fisheries under the competence of the ICCAT Convention. Another option suggested during the Convention Amendment Working Group Meeting was to amend the Convention to cover those shark species that are “oceanic, pelagic, and highly migratory.” The intention of the proposal was to narrow the shark species that would come under ICCAT management by excluding purely coastal sharks—whether they occur only within one country's exclusive economic zone or are shared among two or more countries.

Any expansion of ICCAT's management authority for sharks has potential implications for ICCAT, for the covered shark species and fisheries, and for U.S. domestic shark management. ICCAT's Convention Working Group is also considering a number of other important issues, including ecosystem approaches to management, the precautionary approach, and the decision making processes of the Commission. The United States is in the process of considering its position with respect to these matters and welcomes any views that members of the public may wish to share.

NMFS expects members of the public to conduct themselves appropriately at the open session of the Advisory Committee meeting. At the beginning of the public comment session, an explanation of the ground rules will be provided (e.g., alcohol in the meeting room is prohibited, speakers will be called to give their comments in the order in which they registered to speak, each speaker will have an equal amount of time to speak and speakers should not interrupt one another). The session will be structured so that all attending members of the public are able to comment, if they so choose, regardless of the degree of controversy of the subject(s). Those not respecting the ground rules will be asked to leave the meeting.

After the open session, the Advisory Committee will meet in closed session to discuss sensitive information relating to upcoming international negotiations regarding the conservation and management of Atlantic highly migratory species.

Special Accommodations

The meeting location is physically accessible to people with disabilities. Requests for sign language interpretation or other auxiliary aids should be directed to Rachel O'Malley at (301) 427-8373 or Rachel.O'Malley@noaa.gov at least 5 days prior to the meeting date.

Dated: September 19, 2013.
Dean Swanson,
Acting Director, Office of International Affairs, National Marine Fisheries Service.

[FR Doc. 2013-23203 Filed 9-23-13; 8:45 am]

BILLING CODE 3510-22-P